DEPARTMENT OF HEALTH AND HUMAN SERVICES

Administration for Children and Families

Submission for OMB Review; Comment Request

Title: Strengthening Relationship Education and Marriage Services (STREAMS) Evaluation.

OMB No.: New Collection.

Description: The Office of Family Assistance (OFA) within the Administration for Children and Familes (ACF) at the U.S. Department of Health and Human Services has issued grants to 46 organizations to provide healthy marriage and relationship education (HMRE) services. The Office of Planning, Research, and Evaluation (OPRE) within ACF proposes data collection activity in six HMRE grantees as part of the Strengthening Relationship Education and Marriage Services (STREAMS) evaluation. The purpose of STREAMS is to measure the effectiveness and quality of HMRE programs designed to strengthen intimate relationships. In particular, the evaluation will examine HMRE programs for youth in high school, at-risk youth, and adults. The study will fill knowledge gaps about the effectiveness of HMRE programming for youth and adults and strategies for improving program delivery and participant engagement in services. The STREAMS evaluation will include two components, an impact study and a process study.

1. Impact Study. The goal of the impact study is to provide rigorous estimates of the effectiveness of program services and interventions to improve program implementation. The impact study will use an experimental design. Eligible program applicants will be randomly assigned to either a program group that is offered program services or a control group that is not. Grantee staff will use an add-on to an existing program MIS (the nFORM system, OMB no. 0970-0460) to conduct random assignment in sites enrolling at-risk youth and adults. STREAMS will use classroom-level or school-level random assignment for programs serving youth in high school. STREAMS will collect baseline information from eligible program applicants prior to random assignment and administer a follow-up survey to all study participants 12 months after random assignment.

2. Process study. The goal of the process study is to support the interpretation of impact findings and document program operations to support future replication. STREAMS will conduct semi-structured interviews with program staff and selected community stakeholders, conduct focus groups with program participants, administer a paper-and-pencil survey to program staff, and collect data on adherence to program curricula through an add on to an existing program MIS (nFORM, OMB no. 0970-0460).

This 30-Day Notice includes the following data collection activities: (1) A topic guide for semi-structured interviews with program staff and community stakeholders, (2) focus group guides for adult program participants, (3) focus group guides for youth in schools, (4) a staff survey, (5) the MIS functions for collecting data on adherence to program curricula (6) introductory script that program staff will use to introduce the study to participants, (7) the MIS functions for conducting random assignment, (8) a baseline survey for youth, (9) a follow-up survey for youth, (10) a baseline survey for adults, and (11) a follow-up survey for adults.

Respondents: Program applicants, study participants, grantee staff, and local stakeholders (such as staff at referral agencies).

Annual Burden Estimates
Instrument | Total number of respondents | Annual number of respondents | Number of responses per respondent | Average burden hours per response | Annual burden hours
1. Topic guide for staff and stakeholder interviews | 150 | 50 | 1 | 1 | 50
2. Focus group guide for adults | 120 | 40 | 1 | 1.5 | 60
3. Focus group guide for youth in schools | 60 | 20 | 1 | 1.5 | 30
4. Staff survey | 120 | 40 | 1 | .5 | 20
5. Study MIS session adherence form | 48 | 48 | 104 | .08 | 399
6a. Introductory script, grantee staff | 8 | ¹ 8 | 219 | .08 | 140
6b. Introductory script, program applicants | 5,250 | 1,750 | 1 | .08 | 140
7. Study MIS to conduct random assignment | 8 | ¹ 8 | 208 | .08 | 133
8. Baseline survey for youth | 3,600 | 1,200 | 1 | .5 | 600
9. Follow-up survey for youth | 3,240 | 1,080 | 1 | .5 | 540
10. Baseline survey for adults | 4,000 | 1,333 | 1 | .5 | 667
11. Follow-up survey for adults | 3,200 | 1,067 | 1 | .75 | 800

Estimated Total Annual Burden Hours: 3,579.

Additional Information: Copies of the proposed collection may be obtained by writing to the Administration for Children and Families, Office of Planning, Research and Evaluation, 330 C Street SW., Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
ACF Certifying Officer.

[FR Doc. 2016-05605 Filed 3-11-16; 8:45 am]

BILLING CODE 4184-73-P